DEPARTMENT OF TRANSPORTATION

Federal Aviation Administration

14 CFR Part 39

[Docket No. 2001-NM-05-AD; Amendment 39-12631; AD 2002-02-03]

RIN 2120-AA64

Airworthiness Directives; BAE Systems (Operations) Limited Model BAe 146 Series Airplanes

AGENCY: Federal Aviation Administration, DOT.

ACTION: Final rule.

SUMMARY: This amendment adopts a new airworthiness directive (AD), applicable to certain BAE Systems (Operations) Limited Model BAe 146 series airplanes, that requires repetitive inspections to detect cracking of the horizontal butt joint of the rear pressure bulkhead and repair, as necessary. This amendment also requires installation of new joint plates on the aft face of the rear pressure bulkhead, which terminates the requirements of this AD. This action is necessary to prevent cracking of the horizontal butt joint of the rear pressure bulkhead, which could result in reduced structural integrity of the airplane. This action is intended to address the identified unsafe condition.

DATES: Effective March 14, 2002.

The incorporation by reference of certain publications listed in the regulations is approved by the Director of the Federal Register as of March 14, 2002.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain BAE Systems (Operations) Limited Model BAe 146 series airplanes was published in the Federal Register on September 14, 2001 (66 FR 47899). That action proposed to require repetitive inspections to detect cracking of the horizontal butt joint of the rear pressure bulkhead and repair, as necessary. That action also proposed to require installation of new joint plates on the aft face of the rear pressure bulkhead, which terminates the repetitive inspections.

Comments

Interested persons have been afforded an opportunity to participate in the making of this amendment. No comments were submitted in response to the proposal or the FAA's determination of the cost to the public.

Clarification of Compliance Times

Since the issuance of the notice of proposed rulemaking (NPRM), the FAA has found that paragraphs (a)(1) and (d)(1) of the NPRM need to be clarified. Paragraph (a)(1) of the NPRM requires that the initial inspection of the horizontal butt joint of the rear pressure bulkhead be accomplished “Prior to the accumulation of 12,000 flight cycles * * *.” Paragraph (d)(1) of the NPRM requires that the modification of the rear pressure bulkhead be accomplished “Prior to the accumulation of 40,000 flight cycles * * *.” It was our intent that those actions be accomplished prior to the applicable “total” flight cycles. Therefore, we have revised paragraphs (a)(1) and (d)(1) of the final rule to specify total flight cycles.

Clarification of Terminating Action

Since the issuance of the NPRM, the FAA has also determined that the terminating action specified in paragraph (e) of the NPRM needs to be clarified. That paragraph states, “Accomplishment of paragraph (d) of this AD terminates the need for repetitive inspections as specified in paragraph (b) of this AD.” However, the installation required by paragraph (d) of this AD, as specified in BAE Systems (Operations) Limited Modification Service Bulletin SB.53-42-00713A, Revision 2, dated November 3, 2000 (which is referenced as an appropriate source of service information in this AD), also terminates the requirements of paragraphs (a) and (c) of this AD. Therefore, we have revised paragraph (e) of the final rule to state, “Accomplishment of the installation required by paragraph (d) of this AD constitutes terminating action for the requirements of this AD.” We have also changed the Summary section of this AD accordingly.

Changes Made to Paragraph (c) of This AD

Since the issuance of the NPRM, we have found that paragraph (c) of the NPRM needs to be clarified. It was our intent that the repair may also be done per a method approved by the CAA's delegated agent. Therefore, we have included that language in paragraph (c) of this AD.

Conclusion

After careful review of the available data, the FAA has determined that air safety and the public interest require the adoption of the rule with the changes described previously. The FAA has determined that these changes will neither increase the economic burden on any operator nor increase the scope of the AD.

Cost Impact

The FAA estimates that 8 airplanes of U.S. registry will be affected by this AD.

It will take approximately 1 work hour per airplane to accomplish the required detailed visual inspection of the horizontal butt joints on the forward and rear faces of the rear pressure bulkhead, at an average labor rate of $60 per work hour. Based on these figures, the cost impact of the required inspection on U.S. operators is estimated to be $480, or $60 per airplane, per inspection cycle.

It will take approximately 9 work hours per airplane to accomplish the required installation of new butt joints on the rear pressure bulkhead, at an average labor rate of $60 per work hour. The estimated cost of the required parts is $495. Based on these figures, the cost impact of the required installation on U.S. operators is estimated to be $8,280, or $1,035 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-02-03 BAE Systems (Operations) Limited (Formerly British Aerospace Regional Aircraft): Amendment 39-12631. Docket 2001-NM-05-AD.

Applicability: Model BAe 146 series airplanes on which Modification HCM00713A has not been accomplished, certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent cracking of the horizontal butt joint of the rear pressure bulkhead, which could result in reduced structural integrity of the airplane, accomplish the following:

Initial Inspection

(a) Conduct a detailed visual inspection for cracking of the horizontal butt joint of the rear pressure bulkhead, in accordance with BAE Systems (Operations) Limited Inspection Service Bulletin ISB.53-42, Revision 1, dated November 3, 2000, at the later of the times specified in paragraph (a)(1) or (a)(2) of this AD.

(1) Prior to the accumulation of 12,000 total flight cycles; or

(2) Within 4,000 total flight cycles or 2 years after the effective date of this AD, whichever occurs first.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Repetitive Inspections

(b) Repeat the detailed visual inspection specified in paragraph (a) of this AD at intervals not to exceed 12,000 flight cycles.

Repair

(c) If any crack is detected during a detailed visual inspection required by either paragraph (a) or (b) of this AD, prior to further flight, repair the crack in a manner approved by the Manager, International Branch, ANM-116, Transport Airplane Directorate, FAA; or the Civil Aviation Authority (CAA) (or its delegated agent).

Modification

(d) Install new joint plates on the rear pressure bulkhead, in accordance with BAE Systems (Operations) Limited Modification Service Bulletin SB.53-42-00713A, Revision 2, dated November 3, 2000, at the later of the times specified in paragraph (d)(1) or (d)(2) of this AD.

(1) Prior to the accumulation of 40,000 total flight cycles, or

(2) Within 6,000 flight cycles or 2 years after the effective date of this AD, whichever occurs first.

Terminating Action

(e) Accomplishment of the installation required by paragraph (d) of this AD constitutes terminating action for the requirements of this AD.

Alternative Methods of Compliance

(f) An alternative method of compliance or adjustment of the compliance time that provides an acceptable level of safety may be used if approved by the Manager, International Branch, ANM-116. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(g) Special flight permits may be issued in accordance with sections 21.197 and 21.199 of the Federal Aviation Regulations (14 CFR 21.197 and 21.199) to operate the airplane to a location where the requirements of this AD can be accomplished.

Incorporation by Reference

(h) Except as provided by paragraph (c) of this AD, the actions shall be done in accordance with BAE Systems (Operations) Limited Inspection Service Bulletin ISB.53-42, Revision 1, dated November 3, 2000; and BAE Systems (Operations) Limited Modification Service Bulletin SB.53-42-00713A, Revision 2, dated November 3, 2000; as applicable. (Only the first page of BAE Systems (Operations) Limited Modification Service Bulletin SB.53-42-00713A, Revision 2, is dated; no other page of the document contains this information.) This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Note 4: The subject of this AD is addressed in British airworthiness directive 002-11-2000.

Effective Date

(i) This amendment becomes effective on March 14, 2002.

Issued in Renton, Washington, on January 29, 2002.
Ali Bahrami,
Acting Manager, Transport Airplane Directorate, Aircraft Certification Service.

[FR Doc. 02-2649 Filed 2-6-02; 8:45 am]

BILLING CODE 4910-13-U